DEPARTMENT OF JUSTICE

Notice of Lodging of Consent Decree Pursuant to the Comprehensive Environmental Response, Compensation and Liability Act of 1980

In accordance with Departmental policy and 28 CFR 50.7, notice is hereby given that on November 30, 2000, a consent decree was lodged in United States v. Sonoco Products Company and Kardon Industries, Inc., Civil Action No. 00-6068 with the United States District Court for the Eastern District of Pennsylvania.

Pursuant to the consent decree, defendants Sonoco Products Company (“Sonoco”) and Kardon Industries, Inc. (“Kardon”) will pay $40,000 in reimbursement of response costs incurred by EPA at the Kardon Park Site in Chester County, Pennsylvania.

The Department of Justice will receive comments relating to the proposed consent decree for a period of thirty days from the date of publication of this notice. Comments should be addressed to the Assistant Attorney General, Environment and Natural Resources Division, Department of Justice, Washington, DC 20530, and should refer to United States v. Sonoco Products Company and Kardon Industries, Inc., DOJ Ref. No. 90-11-3-06935. The proposed Consent Decree may be examined at the office of the United States Attorney, 615 Chestnut Street, Suite 1250, Philadelphia, Pennsylvania, 19106. Copies of the consent decree may also be examined at the offices of the Environmental Protection Agency, Region III, 1650 Arch Street, Philadelphia, Pennsylvania 19103. A copy of the Consent Decree may also be obtained by mail from the Department of Justice Consent Decree Library, P.O. Box 7611, Washington, DC 20044. When requesting a copy by mail, please enclose a check in the amount of $4.75 (Twenty-five cents per page reproduction costs), payable to the “Consent Decree Library.”

Walker Smith,
Deputy Chief, Environmental Enforcement Section, Environment and Natural Resources Division.

[FR Doc. 00-31766 Filed 12-13-00; 8:45 am]

BILLING CODE 4410-15-M